DEPARTMENT OF THE INTERIOR

Bureau of Land Management

[CA-660-1430-ER-CACA-17905]

Notice of Availability of the Final Environmental Impact Report/Environmental Impact Statement for the Southern California Edison Devers-Palo Verde No. 2 Transmission Line Project, California

AGENCY: Bureau of Land Management, Interior.

ACTION: Notice of availability.

SUMMARY: In accordance with the National Environmental Policy Act of 1969 (NEPA), as amended (Pub. L. 91-190, 42 U.S.C. 4321-4347), and Title 40 CFR Parts 1500-1508, the Bureau of Land Management (BLM) hereby gives notice that the Final Environmental Impact Report/Environmental Impact Statement (EIR/EIS) for the Southern California Edison Company (SCE) Devers-Palo Verde No. 2 Transmission Line Project is available for public review and comment.

The BLM is the lead Federal agency for the preparation of the EIS in compliance with the requirements of NEPA. The California Public Utilities Commission (CPUC) is the lead State of California agency for the preparation of the EIR in compliance with the requirements of the California Environmental Quality Act. If the project is approved, BLM and CPUC would issue right-of-way grants to SCE.

DATES: The document will be available for public review and comment for 30 days following publication of a Notice of Availability (NOA) of this document in the Federal Register by the Environmental Protection Agency.

ADDRESSES: The EIR/EIS is available online at the BLM Web site: http://www.blm.gov/ca/palmsprings. Copies of the document can also be viewed at the BLM Palm Springs-South Coast Field Office, 690 West Garnet Ave., North Palm Springs, Calif. 92258, and at public libraries in Buckeye and Quartzite, Arizona, and Redlands, Banning, Beaumont, Calimesa, Cathedral City, Loma Linda, Riverside, Coachella, Colton, Desert Hot Springs, Grand Terrace, Indio, Mentone, Palm Desert, Palo Verde, Rancho Mirage, San Bernardino, and Yucaipa, California.

FOR FURTHER INFORMATION CONTACT: Greg Hill at (760) 251-4840 or e-mail: gchill@ca.blm.gov.

SUPPLEMENTARY INFORMATION: SCE is proposing to construct a new 230-mile long, 500-kilovolt (kV) electrical transmission line between its Devers Substation located near Palm Springs, California, and the Harquahala Generating Station switchyard, located near the Palo Verde Nuclear Generating Station west of Phoenix, Arizona. In addition, SCE is proposing to upgrade 48.2 miles of existing 230-kV transmission lines between the Devers Substation west to the San Bernardino and Vista Substations, located in the San Bernardino, California, vicinity. Together, the proposed 500-kV line and the 230-kV transmission facility upgrades are known as DPV2. The proposed route crosses public and private lands in Arizona and California. Portions of the proposed route cross Federal lands managed by the BLM and the U.S. Fish and Wildlife Service.

Construction of DPV2 would add 1,200 megawatts of transmission import capacity from the southwestern United States to California, which would reduce energy costs throughout California and enhance the reliability of California's energy supply through increased transmission infrastructure. The BLM identified a list of issues that this analysis addresses including the impacts of the proposed project on visual resources, agricultural lands, air quality, plant and animal species including special status species, cultural resources, and watersheds. Other issues identified by the BLM are impacts to the public in the form of noise, traffic, accidental release of hazardous materials, and impacts to urban, residential, and recreational areas.

Public participation hearings and workshops on the draft EIR/EIS were held in: Tonopah, Arizona, on June 6, 2006; Beaumont, California, on June 7, 2006; and Palm Desert, California, on June 8, 2006.

The BLM will prepare a Record of Decision (ROD) for the proposed project after a 30-day period following publication of the NOA.

Dated: December 11, 2006.
Gail Acheson,
Field Manager.

[FR Doc. E7-4759 Filed 3-14-07; 8:45 am]

BILLING CODE 4310-40- P